UNITED STATES INSTITUTE OF PEACE

Notice of Meeting

AGENCY: United States Institute of Peace.

Date/Time: Friday, October 23, 2015 (10:00 a.m.-1:45 p.m.).

Location: 2301 Constitution Avenue NW., Washington, DC 20037.

Status: Open Session—Portions may be closed pursuant to subsection (c) of section 552(b) of title 5, United States Code, as provided in subsection 1706(h)(3) of the United States Institute of Peace Act, Public Law 98-525.

Agenda: October 23, 2015 Board Meeting; Approval of Minutes of the One Hundred Fifty-sixth Meeting (July 24, 2015) of the Board of Directors; Chairman's Report; Vice Chairman's Report; President's Report; Prime Minister Nawaz Sharif Event; Reports from USIP Board Committees; Annual Update—Strategic Plan Evaluation.

Contact: Nick Rogacki, Special Assistant to the President, Email: nrogacki@usip.org.

Dated: September 25, 2015.
Nicholas Rogacki,
Special Assistant to the President.

[FR Doc. 2015-26247 Filed 10-14-15; 8:45 am]

BILLING CODE 6820-AR-P